DEPARTMENT OF COMMERCE

International Trade Administration

[C-570-059]

Cold-Drawn Mechanical Tubing of Carbon and Alloy Steel From the People's Republic of China: Rescission of Countervailing Duty Administrative Review; 2017-2018

AGENCY: Enforcement and Compliance, International Trade Administration, Department of Commerce.

SUMMARY: The Department of Commerce (Commerce) is rescinding the administrative review of the countervailing duty order on cold-drawn mechanical tubing of carbon and alloy steel (cold-drawn mechanical tubing) from the People's Republic of China (China) for the period September 25, 2017, through December 31, 2018, based on the timely withdrawals of the requests for review.

DATES: Applicable September 18, 2019.

FOR FURTHER INFORMATION CONTACT: Shanah Lee, AD/CVD Operations, Office III, Enforcement and Compliance, International Trade Administration, U.S. Department of Commerce, 1401 Constitution Ave. NW, Washington, DC 20230; telephone: (202) 482-6386.

Background

On February 8, 2019, Commerce published a notice of opportunity to request an administrative review of the countervailing duty order on cold-drawn mechanical tubing from China for the period September 25, 2017, through December 31, 2018.¹ On February 28, 2019, Howmet Corp Logistics Services (Howmet), a U.S. importer, timely filed a request to conduct an administrative review of Wuxi P&C Machinery Co., Ltd. (Wuxi P&C).² Also, on February 28, 2019, ArcelorMittal Tubular Products LLC and Webco Industries, Inc. (the petitioners) timely filed a request to conduct an administrative review of 18 companies, including Wuxi P&C.³ Based on these requests, on May 2, 2019, in accordance with section 751(a) of the Tariff Act of 1930, as amended (the Act), Commerce published in the Federal Register a notice of initiation of administrative review covering the period September 25, 2017, through December 31, 2018 for 18 companies.⁴ On June 28, 2019, the petitioners submitted a request to withdraw their request for administrative review with respect to all companies for which a review was requested.⁵ On July 31, 2019, Howmet submitted a request to withdraw its request for administrative review with respect to Wuxi P&C.⁶

¹ See Antidumping or Countervailing Duty Order, Finding, or Suspended Investigation; Opportunity to Request Administrative Review, 84 FR 2816 (February 8, 2019).

² See Howmet's Letter, “Cold-Drawn Mechanical Tubing from the People's Republic of China: Request for Administrative Review,” dated February 28, 2019.

³ See Petitioners' Letter, “Cold-Drawn Mechanical Tubing from the People's Republic of China—Domestic Industry's Request for 2017-2018 First Administrative Review,” dated February 28, 2019.

⁴ See Initiation of Antidumping and Countervailing Duty Administrative Reviews, 84 FR 18777 (May 2, 2019) (Initiation Notice), as corrected by Initiation of Antidumping and Countervailing Duty Administrative Reviews, 84 FR 47242 (September 9, 2019).

⁵ See Petitioners' Letter, “Cold-Drawn Mechanical Tubing from the People's Republic of China—Petitioners' Withdrawal of Request for an Administrative Review and Request for Rescission of Review,” dated June 27, 2019.

⁶ See Howmet's Letter, “Cold-Drawn Mechanical Tubing from the People's Republic of China: Withdrawal of Request for Administrative Review,” dated July 31, 2019.

Rescission of Review

Pursuant to 19 CFR 351.213(d)(1), the Secretary will rescind an administrative review, in whole or in part, if the party that requested the review withdraws the request within 90 days of the date of publication of the notice of initiation of the requested review. As noted above, Howmet and the petitioners withdrew their requests by the 90-day deadline. Accordingly, we are rescinding the administrative review of the countervailing duty order on cold-drawn mechanical tubing from China covering September 25, 2017, through December 31, 2018, in its entirety.

Assessment

Commerce will instruct U.S. Customs and Border Protection (CBP) to assess countervailing duties on all appropriate entries of cold-drawn mechanical tubing from China. Countervailing duties shall be assessed at rates equal to the cash deposit of estimated countervailing duties required at the time of entry, or withdrawal from warehouse, for consumption, in according with 19 CFR 351.212(c)(1)(i). Commerce intends to issue appropriate assessment instructions to CBP 15 days after the date of publication of this notice in the Federal Register.

Notification Regarding Administrative Protective Orders

This notice serves as a reminder to all parties subject to administrative protective order (APO) of their responsibility concerning the disposition of proprietary information disclosed under APO in accordance with 19 CFR 351.305. Timely written notification of the return/destruction of APO materials or conversion to judicial protective order is hereby requested. Failure to comply with the regulations and terms of an APO is a violation which is subject to sanction.

This notice is issued and published in accordance with sections 751(a)(1) and 777(i)(1) of the Act, and 19 CFR 351.213(d)(4).

Dated: September 12, 2019.
James Maeder,
Deputy Assistant Secretary for Antidumping and Countervailing Duty Operations.

[FR Doc. 2019-20179 Filed 9-17-19; 8:45 am]

BILLING CODE 3510-DS-P